DEPARTMENT OF TRANSPORTATION

Maritime Administration

[Docket Number: MARAD 2008 0029]

Use of Foreign-Flag Anchor Handling Vessels in the Beaufort Sea or Chukchi Sea Adjacent to Alaska

AGENCY: Maritime Administration, Department of Transportation.

ACTION: Notice and request for comments.

SUMMARY: As authorized by Public Law 109-347, the Secretary of Transportation, as represented by the Maritime Administration, is authorized to make determinations permitting the use of foreign-flag anchor handling vessels in certain cases (and for a limited period of time) if no U.S.-flag vessels are found to be suitable and reasonably available.

A request for such a determination regarding anchor handling vessels with a minimum ice class A3 has been received by the Maritime Administration. If the Maritime Administration determines that U.S.-flag vessels are not suitable and reasonably available for the proposed service, a determination will be granted allowing for the conditional use of these vessels, within a set time frame. Those interested in providing the names of suitable and available vessels for the proposed service should refer to the docket number, and identify the U.S.-flag vessels available.

DATES: Submit U.S.-flag anchor handling ice class A3 or above vessel nominations on or before April 30, 2008.

ADDRESSES: U.S.-flag vessel nominations should refer to docket number MARAD 2008 0029. Written nominations may be submitted by hand or by mail to the Docket Clerk, U.S. DOT Dockets, Room PL-401, Department of Transportation, 1200 New Jersey Avenue, SE., Washington, DC 20590-0001. You may also send documents electronically via the Internet at http://www.regulations.gov. All submissions will become part of this docket and will be available for inspection and copying at the above address between 10 a.m. and 5 p.m., E.T., Monday through Friday, except federal holidays. An electronic version of this document, and all documents entered into this docket, is available on the World Wide Web at http://www.regulations.gov.

FOR FURTHER INFORMATION CONTACT: Thomas W. Harrelson, U.S. Department of Transportation, Maritime Administration, MAR-730, Room W21-314, 1200 New Jersey Avenue, SE., Washington, DC 20590. Telephone 202-366-5515.

SUPPLEMENTARY INFORMATION: The Maritime Administration has received a request from an attorney on behalf of a client seeking permission to charter foreign-flag ice-classed A3 anchor handling vessels adjacent to the coast of Alaska. The two foreign-flag anchor handling vessels (VLADIMIR IGNATYUK #8127804 and JIM KILABUK #7420754) would operate in the Beaufort Sea or Chukchi Sea adjacent to Alaska, under certain conditions, and for a limited period of time. Section 705 of Pub.L. 109-347 allows the use of foreign-flag vessels in this regard if the Maritime Administration determines that U.S.-flag vessels are not suitable or reasonably available.

The Maritime Administration is posting this notice in the Federal Register providing the public 30 days notice of our intention to provide a determination allowing for the use of foreign-flag vessels in this regard, if suitable and available U.S.-flag vessels are not otherwise identified. The Maritime Administration's determination will be for the period through December 31, 2009.

By order of the Maritime Administrator.
Dated: March 25, 2008.
Christine Gurland,
Acting Secretary, Maritime Administration.

[FR Doc. E8-6567 Filed 3-28-08; 8:45 am]

BILLING CODE 4910-81-P